DEPARTMENT OF STATE

[Delegation of Authority No. 460]

Delegation of Authority by the Secretary of State to the Administrator of the United States Agency for International Development of Functions and Authorities Under the Reinforcing Education Accountability in Development Act

By virtue of the authority vested in the Secretary of State by the laws of the United States, including section 1 of the State Department Basic Authorities Act (22 U.S.C. 2651a), and the Memorandum of the President dated August 31, 2018, I hereby delegate to the Administrator of the United States Agency for International Development the functions and authorities conferred upon the President by sections 4, 6, and 7 of the Reinforcing Education Accountability in Development (READ) Act (Div. A, Pub. L. 115-56).

Any reference in this delegation of authority to any act shall be deemed to be a reference to such act as amended from time to time. The Administrator of the United States Agency for International Development may re-delegate the functions delegated by this delegation of authority, as appropriate, to the extent authorized by law.

This document shall be published in the Federal Register.

Dated: September 13, 2018.
Michael R. Pompeo,
Secretary of State, Department of State.

[FR Doc. 2018-21897 Filed 10-5-18; 8:45 am]

BILLING CODE 4710-10-P